DEPARTMENT OF HOMELAND SECURITY

Coast Guard

[CGD09-05-130]

Great Lakes Regional Waterways Management Forum

AGENCY: Coast Guard, DHS.

ACTION: Notice of meeting.

SUMMARY: The Great Lakes Regional Waterways Management Forum will hold a meeting to discuss various waterways management issues. Potential agenda items will include navigation, ballast water regulations, Automatic Identification Systems (AIS), waterways management, and discussions about the agenda for the next meeting. The meeting will be open to the public.

DATES: The meeting will be held November 17, 2005 from 1 p.m. to 5 p.m., and November 18, 2005 from 8:30 a.m. to 12 p.m. Comments must be submitted on or before November 14, 2005 to be considered at the meeting.

ADDRESSES: The meeting will be held at the Village Inn, 751 Christina Street, Point Edward, Ontario. Any written comments and materials should be submitted to Commander (dpw-1), Ninth Coast Guard District, 1240 E. 9th Street, Room 2069, Cleveland, OH 44199.

FOR FURTHER INFORMATION CONTACT: LTjg Regan Blomshield (dpw-1), Ninth Coast Guard District, 1240 E. 9th Street, Room 2069, Cleveland, OH 44199, telephone (216) 902-6050. Persons with disabilities requiring assistance to attend this meeting should contact LTjg Blomshield.

SUPPLEMENTARY: The Great Lakes Waterways Management Forum identifies and resolves waterways management issues that involve the Great Lakes region. The forum meets twice a year to assess the Great Lakes region, assign priorities to areas of concern and identify issues for resolution. The forum membership has identified potential agenda items for this meeting that include: navigation, AIS, ballast water regulations, waterways management, and discussions about the agenda for the next meeting. The specific agenda is still under development. Additional topics of discussion are solicited from the public.

Dated: October 20, 2005.
Robert J. Papp Jr.,
Rear Admiral, U. S. Coast Guard, Commander, Ninth Coast Guard District, Cleveland, Ohio.

[FR Doc. 05-21732 Filed 10-31-05; 8:45 am]

BILLING CODE 4910-15-P